DEPARTMENT OF THE INTERIOR

Bureau of Land Management

[CA-360-1430-ET; CACA 46634]

Notice of Proposed Withdrawal and Transfer of Jurisdiction, and Opportunity for Public Meeting; California

AGENCY: Bureau of Land Management, Interior.

ACTION: Notice.

SUMMARY: The Secretary of the Interior proposes to withdraw approximately 472 acres of Federal lands from surface entry and mining and transfer jurisdiction to the U.S. Fish and Wildlife Service (FWS) to be managed as part of the Sacramento River National Wildlife Refuge (Refuge). This notice segregates the lands for up to 2 years from surface entry and mining while various studies and analyses are made to support a final decision on the withdrawal application. The lands will remain open to mineral and geothermal leasing and mineral material sales.

DATES: Comments should be received on or before March 26, 2008.

ADDRESSES: Comments should be sent to Stephen Dyer, Realty Officer, California/Nevada Realty Office, U.S. Fish and Wildlife Service, 2800 Cottage Way, Suite W-1832, Sacramento, California 95825.

FOR FURTHER INFORMATION CONTACT: Karen Bierley-Hand, 916-414-6448 or at the above address.

SUPPLEMENTARY INFORMATION: The applicant is the FWS at the address stated above. The petition/application requests the Secretary of the Interior to withdraw, subject to valid existing rights the following described Federal lands from settlement, sale, location or entry under the general land laws, including the United States mining laws, but not the mineral leasing or mineral materials laws, and transfer jurisdiction to the FWS:

Mount Diablo Meridian, California

Foster Island

T. 23 N., R. 2 W.,

Sec. 11, lots 4 and 5;

Sec. 14, lots 1 to 5, inclusive;

Sec. 15, lots 1 to 5, inclusive.

The area described contains 221.89 acres in Tehama County.

Todd Island

A portion of Lot 40 of Rancho El Primer Canon or Rio de los Berrendos Land Grant, in Tehama County, California, and in T. 26 N., R. 2 W., MDM, more particularly described as follows: Parcels one, two, three, and four, described by metes and bounds, in a Corporation Grant Deed recorded in Book 602 at Page 620 of the Official Records of Tehama County, California on September 11, 1972. The area described contains approximately 250 acres in Tehama County. The two islands aggregate approximately 471.89 acres in Tehama County.

The FWS's petition/application has been approved by the Assistant Secretary, Land and Minerals Management, therefore, it constitutes a withdrawal proposal of the Secretary of the Interior (43 CFR 2310.1-3(e)).

The lands proposed for withdrawal consist of isolated tracts of public land within the boundary of the Sacramento River National Wildlife Refuge (Refuge). The lands would be withdrawn to protect riparian habitat along the Sacramento River, which is critically important for fish, migratory birds, plants, and river system health, and to transfer jurisdiction to the FWS, so it could manage the lands under the authority of the Fish and Wildlife Act of 1956 (16 U.S.C. 742aa-742j-2), as amended, and the Endangered Species Act of 1973 (16 U.S.C. 1531-1543), as amended.

The use of a right-of-way, interagency agreement, cooperative agreement, or surface management under 43 CFR Part 3809 regulations would not adequately constrain non-discretionary uses that could irrevocably affect the use of the lands for a wildlife refuge managed by the FWS.

There are no suitable alternative sites since the lands described herein contain the natural and biological resources of interest for protection.

For a period of 90 days from the date of publication of this notice, all persons who wish to submit comments, suggestions, or objections in connection with the proposed withdrawal may present their views in writing, by the date specified above, to Stephen Dyer, Realty Officer, California/Nevada Realty Office, U.S. Fish and Wildlife Service, 2800 Cottage Way, Suite W-1832, Sacramento, California 95825.

Comments, including names and street addresses for respondents, will be available for public review at Bureau of Land Management's (BLM) California State Office, 2800 Cottage Way, Suite W-1834, Sacramento, California 95825-1886, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request no later than March 26, 2008. Upon determination by the authorized officer that a public meeting will be held, a notice of time and place will be published in the Federal Register and a local newspaper at least 30 days before the scheduled date of the meeting.

The application will be processed in accordance with the regulations set forth in 43 CFR part 2300.

For a period of 2 years from December 27, 2007, the Federal lands and minerals will be segregated as specified above unless the application is denied or canceled or the withdrawal is approved prior to that date.

During the segregative period, BLM may, after consulting with the FWS, allow uses of a temporary nature that are compatible with the purposes for which the Refuge was established.

(Authority: 43 CFR 2310.3-1)

Dated: November 26, 2007.
Robert M. Doyel,
Chief, Branch of Lands Management (CA-930).

[FR Doc. E7-25110 Filed 12-26-07; 8:45 am]

BILLING CODE 4310-$$-P